DEPARTMENT OF THE INTERIOR

Bureau of Land Management

DEPARTMENT OF AGRICULTURE

Forest Service

[15XL LLIDI02000 L71220000.EO0000-LVTFDX508400 241A 4500080287]

Notice of Availability of Draft Environmental Impact Statement for the Proposed Rasmussen Valley Mine, Caribou County, Idaho

AGENCY: Bureau of Land Management, Interior; United States Forest Service, USDA.

ACTION: Notice of availability.

SUMMARY: In accordance with the National Environmental Policy Act of 1969, as amended (NEPA), the Bureau of Land Management (BLM) and the U.S. Department of Agriculture, Forest Service (USFS), Caribou-Targhee National Forest (CTNF), have prepared a Draft Environmental Impact Statement (EIS) for the proposed Rasmussen Valley Mine, and by this Notice are announcing the opening of the comment period.

DATES: To ensure comments will be considered, the Agencies must receive written comments on the Rasmussen Valley Mine Draft EIS within 45 days following the date the Environmental Protection Agency publishes their Notice of Availability in the Federal Register. The BLM will announce any future public meetings and any other public involvement activities at least 15 days in advance through public notices, media news releases, or mailings.

ADDRESSES: You may submit comments by any of the following methods:

• Email: blm_id_rasmussenvalleyeis@blm.gov.

• Fax: 303-471-3472.

• Mail: Rasmussen Valley Mine EIS, ARCADIS U.S., Inc., 630 Plaza Drive, Suite 100, Highlands Ranch, CO 80129.

Please reference “Rasmussen Valley Mine EIS” on all correspondence. CD-ROM and print copies of the Rasmussen Valley Mine Draft EIS are available in the BLM Pocatello Field Office at the following address: 4350 Cliffs Drive, Pocatello, ID 83204. In addition, an electronic copy of the Draft EIS is available at either of the Web addresses listed below:

• BLM Land Use Planning and NEPA Register: http://on.doi.gov/1GpGxyW.

• Caribou-Targhee National Forest Current and Recent Projects: http://www.fs.usda.gov/projects/ctnf/landmanagement/projects.

FOR FURTHER INFORMATION CONTACT: William (Bill) Volk, Bureau of Land Management, Pocatello Field Office, telephone 208-236-7503; address at 4350 Cliffs Drive, Pocatello, ID 83204; email at wvolk@blm.gov. Persons who use a telecommunications device for the deaf (TDD) may call the Federal Information Relay Service (FIRS) at 1-800-877-8339 to contact the above individual during normal business hours. The FIRS is available 24 hours a day, 7 days a week, to leave a message or question for the above individual. You will receive a reply during normal business hours.

SUPPLEMENTARY INFORMATION: Nu-West Industries, Inc., doing business as Agrium Conda Phosphate Operations (Agrium), has submitted a mine plan for the Rasmussen Valley Mine to exercise their existing contractual rights to recover phosphate ore reserves contained within Federal Phosphate Lease I-05975 (the Lease). They have also filed an application to modify this lease by increasing its size by 170 acres. The Proposed Action would include 440.4 acres of new disturbance and develop a new open pit phosphate mining operation on the Lease that would include mining the pit in panels, backfilling depleted panels with overburden, storing overburden in piles external to the pit, construction of a haul road, development of a water management plan, and construction of other ancillary facilities. Ore would be processed off site at Agrium's Conda Phosphate Operations (CPO) Fertilizer Manufacturing Plant northeast of Soda Springs. The mine would be located in Caribou County approximately 18 miles northeast of Soda Springs, Idaho, on the southwestern flank of Rasmussen Ridge and adjacent to portions of Rasmussen Valley near the headwaters of the Blackfoot River.

The proposed Rasmussen Valley Mine would be developed on BLM-managed lands within an existing Federal phosphate lease; on National Forest System lands within and outside of an existing Federal phosphate lease with surface administered by the Soda Springs Ranger District, on the Blackfoot River Wildlife Management Area within and outside of the Federal phosphate lease with the surface administered by the Idaho Department of Fish and Game (IDFG), and on split estate, private land with minerals administered by the BLM. The Lease grants the lessee, Agrium in this case, exclusive rights to mine and otherwise dispose of the federally-owned phosphate deposit. Under the proposed action a lease modification would increase the size of the lease by 170 acres. A portion of the proposed action would also be outside of the Federal phosphate lease on State land administered by the Idaho Department of Lands (IDL).

As directed by the Mineral Leasing Act of 1920 and in accordance with NEPA, the BLM will evaluate and respond to the mine plan and issue decisions related to the development of the phosphate lease, consider the no action alternative, and decide whether to approve the proposed mine plan. The USFS will make recommendations to the BLM concerning surface management and mitigation on leased lands within the CTNF, and will make separate decisions on special use authorizations for off-lease activities within the CTNF. The BLM, as the Federal lease administrator, is the lead agency for the Draft EIS. The USFS is the joint-lead agency and the Idaho Department of Environmental Quality and U.S. Army Corps of Engineers are cooperating agencies. The IDL, IDFG, Idaho Department of Water Resources, and U.S. Fish and Wildlife Service have also participated in the preparation of the Draft EIS. The Draft EIS provides the analysis upon which the BLM and other involved agencies can base decisions regarding the project.

Under the Proposed Action, phosphate ore would be mined and hauled to Agrium's existing Wooley Valley Tipple, then by existing rail to Agrium's CPO Fertilizer Plant approximately 12 miles to the southwest. The Proposed Action would consist of using open pit mining methods to mine a pit in phases (panels), backfill and reclaim pits; construct permanent and temporary external overburden and ore piles, growth media stockpiles, haul roads; realign portions of the county roads; construct power lines, staging and fuel storage area, water supply wells, and runoff sediment control structures; leave high wall exposures in portions of the backfilled pit; and extend the pit and associated backfill beyond the Lease boundary in several locations requiring Lease modification.

A Notice of Intent to prepare this EIS was published in the Federal Register (76 FR 11259) on March 1, 2011, initiating a public scoping period for the Proposed Action. During scoping, issues and concerns that were expressed included impacts to wetlands; impacts to surface water and groundwater potentially resulting from releases of selenium and other constituents of potential concern (COPC) from waste rock; physical stability of proposed external overburden piles; management of pit water; impacts to wildlife and associated wildlife habitat, especially on the Blackfoot River Wildlife Management Area; and maximum phosphate resource recovery.

To address these issues, several alternatives were considered. Two of these alternatives, Alternative One—the Rasmussen Collaborative Alternative and the No Action Alternative, were carried forward for full analysis in the Draft EIS. Alternative One is the agency preferred alternative and would include 371.7 acres of new disturbance. Elements included in Alternative One are: Relocating the haul road to avoid wetlands; reducing the potential for selenium and other COPCs to impact surface water and groundwater by placing overburden originally scheduled for external overburden piles in an existing open pit at P4's nearby South Rasmussen Mine, resulting in the elimination of three external overburden piles and the associated concern for stability of the natural foundation under these piles and impacts to water resources by COPCs; limiting pit depth to reduce the concern for the management of pit water; shaping pit backfill and external overburden piles to reduce the risk of ponded water on or in the pit, and designing a cover to place over the backfill and overburden to reduce the risk of deep percolation of water; maximizing phosphate resource recovery by extending the pit north; reducing the size of the BLM lease modification contained in the Proposed Action to 100 acres while still accommodating extension of the mine pit, external overburden piles, temporary growth media stockpiles, and ancillary mine features beyond the current Lease boundaries. If the mine is extended, USFS Special Use Authorizations and State of Idaho Temporary Use Authorizations will also be needed.

Under the No Action Alternative, the Rasmussen Valley Mine Plan would not be approved for mining, and no associated development would occur on the existing lease. Similarly, associated requests such as the lease modification application would not be approved. The No Action Alternative would not provide ore for the CPO and would leave the mineral resource unmined. The resources would not be developed under the 2011 Proposed Action. However, the No Action Alternative does not preclude application and approval of future Mine and Reclamation Plans for the site because of pre-existing mining rights granted in the existing Lease.

To facilitate understanding and comments on the Draft EIS, public meetings are planned to be held in Soda Springs and Pocatello, Idaho. Meetings will be open-house style, with displays explaining the project and a forum for commenting on the draft EIS. The BLM will announce dates, times, and locations of the public scoping meetings in mailings and news releases.

Written and electronic comments regarding the Draft EIS should be submitted within 45 days of the date of publication of the Environmental Protection Agency's Notice of Availability in the Federal Register. To assist the BLM and the USFS in identifying issues and concerns related to this project, comments should be as specific as possible. The portion of the proposed project related to special use authorizations for off-lease activities is subject to the USFS's objection process pursuant to 36 CFR 218 Subparts A and B. Only those who provide comment concerning the off-lease activities during this comment period or who have previously submitted specific written comments on the off-lease activities, either during scoping or other designated opportunity for public comment, will be eligible as objectors to the off-lease activities (36 CFR 218.5). BLM appeal procedures found in 43 CFR 4 apply to the portion of the project related to activities proposed on the Federal mineral lease(s).

Please note that public comments and information submitted including names, street addresses, and email addresses of respondents will be available for public review and disclosure at the above BLM address during regular business hours (8 a.m. to 4 p.m.), Monday through Friday, except holidays.

Before including your phone number, email address, or other personal identifying information in your comment, you should be aware that your entire comment—including your personal identifying information—may be made publicly available at any time. While you can ask us in your comment to withhold your personal identifying information from public review, we cannot guarantee that we will be able to do so.

Authority: 42 U.S.C. 4321 et seq. ; 40 CFR parts 1500-1508; 43 CFR part 46; 43 U.S.C. 1701; 43 CFR part 3510; and 43 CFR part 3590.

Jeremy Casterson,
Acting District Manager, Idaho Falls District, Bureau of Land Management.
Robert Mickelsen,
Forest Supervisor, Caribou-Targhee National Forest.

[FR Doc. 2015-23412 Filed 9-17-15; 8:45 am]

BILLING CODE P